DEPARTMENT OF THE INTERIOR

National Park Service

[NPS-WASO-NAGPRA-NPS0035386; PPWOCRADN0-PCU00RP14.R50000]

Notice of Inventory Completion: Broome County Historical Society, Binghamton, NY

AGENCY: National Park Service, Interior.

ACTION: Notice.

SUMMARY: In accordance with the Native American Graves Protection and Repatriation Act (NAGPRA), the Broome County Historical Society has completed an inventory of human remains and associated funerary objects and has determined that there is a cultural affiliation between the human remains and associated funerary objects and Indian Tribes or Native Hawaiian organizations in this notice. The human remains and associated funerary objects were removed from Broome County, NY.

DATES: Repatriation of the human remains and associated funerary objects in this notice may occur on or after March 27, 2023.

ADDRESSES: Shannon Lindridge, Broome County Historical Society, 30 Front Street, Binghamton, NY 13905, telephone (607) 772-0660, email slindridge@roberson.org.

SUPPLEMENTARY INFORMATION: This notice is published as part of the National Park Service's administrative responsibilities under NAGPRA. The determinations in this notice are the sole responsibility of the Broome County Historical Society. The National Park Service is not responsible for the determinations in this notice. Additional information on the determinations in this notice, including the results of consultation, can be found in the inventory or related records held by the Broome County Historical Society. (Roberson Museum and Science Center is the acting collections manager for the Broome County Historical Society).

Description

In 1939-1940, partial human remains representing, at minimum, seven individuals (NA-2, NA-3, NA-4, NA-9, NA-10, CC475, CC479) were removed from the Castle Creek site (SUBi-253) in Broome County, NY, during a field expedition led by John A. Stewart and sponsored by the Broome County Historical Society. No known individuals were identified. The human remains of two of these individuals (NA-9, NA-10) are absent or were never recorded in the collection. In total, there are 23 associated funerary objects, of which 10 objects are currently missing from the collection. The 13 associated funerary objects currently accounted for are one whole clay pot, eight deer incisors, one heron's bill, one bone tube/bead, one chopper, and one pot fragment. The Broome County Historical Society and the Roberson Museum continue to look for the missing 10 associated funerary objects, which are one pipe bowl, one pipe, one worked turtle shell, six bone beads, and one projectile point.

At an unknown date, human remains representing, at minimum, two individuals (NA-5) were removed from the Broome County, NY vicinity, possibly from the Castle Creek Site (SUBi-253). No known individuals were identified. No associated funerary objects are present.

At an unknown date, human remains representing, at minimum, one individual (NA-1) were removed from the town of Union in Broome County, NY. The human remains are possibly early 20th century. No record of the donation to the Broome County Historical Society exists. No known individual was identified. No associated funerary objects are present.

At an unknown date, human remains representing, at minimum one individual (NA-6) were removed from the Chenango Bridge in the Broome County, NY vicinity. Foster Disinger donated the human remains to the Broome County Historical Society. No known individual was identified. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: biological, archeological, and geographical.

Determinations

Pursuant to NAGPRA and its implementing regulations, and after consultation with the appropriate Indian Tribes and Native Hawaiian organizations, the Broome County Historical Society has determined that:

• The human remains described in this notice represent the physical remains of 11 individuals of Native American ancestry.

• The 23 objects described in this notice are reasonably believed to have been placed with or near individual human remains at the time of death or later as part of the death rite or ceremony.

• There is a relationship of shared group identity that can be reasonably traced between the human remains and associated funerary objects described in this notice and the Oneida Indian Nation; Oneida Nation; and the Onondaga Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 27, 2023. If competing requests for repatriation are received, the Broome County Historical Society must determine the most appropriate requestor prior to repatriation. Requests for joint repatriation of the human remains and associated funerary objects are considered a single request and not competing requests. The Broome County Historical Society is responsible for sending a copy of this notice to the Indian Tribes identified in this notice.

Authority: Native American Graves Protection and Repatriation Act, 25 U.S.C. 3003, and the implementing regulations, 43 CFR 10.9, § 10.10, and § 10.14.

Dated: February 15, 2023.
Melanie O'Brien,
Manager, National NAGPRA Program.

[FR Doc. 2023-03816 Filed 2-23-23; 8:45 am]

BILLING CODE 4312-52-P